DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995; as last amended at 78 FR 956-957, dated January 7, 2013).

This notice reflects organizational changes to the Health Resources and Services Administration. This notice updates the functional statement for the Office of Federal Assistance Management (RJ). Specifically, this notice: (1) Moves the grant officer and loan officer function from the Office of the Associate Administrator (RJ) to the Division of Grants Management Operations (RJ3); and (2) moves the electronic grant management system function from the Division of Grants Management Operations (RJ3) to the Office of the Associate Administrator (RJ).

Chapter RJ—Office of Federal Assistance Management

Section RJ-20, Functions

(1) Delete the functional statement for the Office of the Associate Administrator (RJ) and the functional statement for the Division of Grants Management Operations (RJ3), and replace in their entirety.

Office of Federal Assistance Management (RJ)

Provides national leadership in the administration and assurance of the financial integrity of HRSA's programs and provides oversight over all HRSA activities to ensure that HRSA's resources are being properly used and protected. Provides leadership, direction, and coordination to all phases of grants policy, administration, and independent review of competitive grant applications. Specifically: (1) Serves as the Administrator's principal source for grants policy and financial integrity of HRSA programs; (2) exercises oversight over the Agency's business processes related to assistance programs; (3) facilitates, plans, directs, and coordinates the administration of HRSA grant policies and operations; (4) directs and carries out the independent review of grant applications for all of HRSA's programs; (5) exercises the sole responsibility within HRSA for all aspects of grant and cooperative agreement receipt, award, and post-award processes: and (6) provides oversight of the management and maintenance of, and enhancements to, the electronic grant management system that enables staff to perform their day-to-day work.

Division of Grants Management Operations (RJ3)

(1) Plans, directs and carries out the grants officer functions for all of HRSA's grant programs as well as awarding official functions for various scholarship, loan, and loan repayment assistance programs; (2) participates in the planning, development, and implementation of policies and procedures for grants and cooperative agreements; (3) provides assistance and technical consultation to program offices and grantees in the application of laws, regulations, policies, and guidelines relative to the Agency's grant and cooperative agreement programs; (4) develops standard operating procedures, methods, and materials for the administration of the Agency's grants programs; (5) establishes standards and guides for grants management operations; (6) reviews grantee financial status reports and prepares reports and analyses on the grantee's use of funds; (7) provides technical assistance to applicants and grantees on financial and administrative aspects of grant projects; (8) provides data and analyses as necessary for budget planning, hearings, operational planning, and management decisions; (9) participates in the development of program guidance and instructions for grant competitions; (10) oversees contracts in support of receipt of applications, records management, and grant closeout operations; and (11) supports post-award monitoring and closeout by analyzing Payment Management System data and working with grant and program office staff.

Section RJ-30, Delegations of Authority

All delegations of authority and re-delegations of authority made to HRSA officials that were in effect immediately prior to this reorganization, and that are consistent with this reorganization, shall continue in effect pending further re-delegation.

This reorganization is effective upon date of signature.

Dated: February 14, 2013.
Mary K. Wakefield,
Administrator.

[FR Doc. 2013-05064 Filed 3-4-13; 8:45 am]

BILLING CODE 4165-15-P